DEPARTMENT OF COMMERCE

National Oceanic and Atmospheric Administration

[I.D. 092805D]

Endangered and Threatened Species; Take of Anadromous Fish

AGENCY: National Marine Fisheries Service (NMFS), National Oceanic and Atmospheric Administration, Commerce.

ACTION: Notice; issuance of permit 1517.

SUMMARY: On July 7, 2005, NMFS' Northwest Region issued permit 1517 under authority of the Endangered Species Act (ESA), allowing the take of threatened species for enhancement of survival actions.

ADDRESSES: The applications and related documents are available for review during business hours by appointment at NMFS' Washington State Branch Office, Habitat Conservation Division, 510 Desmond Drive SE, Suite 103, Lacy, WA 98503 (phone: 360-753-9530)

FOR FURTHER INFORMATION CONTACT: Stephanie Ehinger, Lacey, WA (phone: 360-534-9341, fax: 360-753-9517, e-mail: stephanie.ehinger@noaa.gov); or Dan Guy at the same office (phone: 360-534-9342, email: dan.guy@noaa.gov).

SUPPLEMENTARY INFORMATION:

Authority

Issuance of permits and permit modifications, as required by the ESA of 1973 (16 U.S.C. 1531-1543), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA are issued in accordance with and are subject to the ESA and NMFS regulations governing listed fish and wildlife permits (50 CFR parts 222-226). Authority to take listed species is subject to conditions set forth in the permits.

Species Covered in This Notice

The following ESA-listed species and evolutionary significant units (ESUs) are covered in this notice:

Threatened Lower Columbia River (LCR) Chinook salmon (Oncorhynchus tshawytscha)

Threatened LCR Steelhead (O. mykiss)

Threatened LCR coho salmon (O. kisutch)

Notice was published on December 28, 2004 (69 FR 77730) that the Lower Columbia Fisheries Enhancement Group, a non-profit organization based in southwest Washington State, applied for an enhancement of survival permit under section 10(a)(1)(A) of the ESA. NMFS issued permit 1517 on July 7, 2005, authorizing annual takes of the threatened salmonids listed above in freshwater areas in Southwest Washington. Permit 1517 expires on July 10, 2010.

Dated: September 28, 2005.
Angela Somma,
Chief, Endangered Species Division, Office of Protected Resources, National Marine Fisheries Service.

[FR Doc. 05-19870 Filed 10-3-05; 8:45 am]

BILLING CODE 3510-22-S